DEPARTMENT OF THE INTERIOR

Bureau of Indian Affairs

Notice of Availability of Final Environmental Impact Statement for the Proposed Transfer From Fee to Trust of Parcels Owned by the Oneida Indian Nation of New York in Oneida and Madison Counties, New York

AGENCY: Bureau of Indian Affairs, Interior.

ACTION: Notice.

SUMMARY: This notice advises the public that the Bureau of Indian Affairs (BIA), as lead agency, with the cooperation of the Oneida Indian Nation of New York (Nation), the New York State Department of Environmental Conservation, Madison County, New York, and Oneida County, New York as cooperating agencies, intends to file a Final Environmental Impact Statement (FEIS) with the U.S. Environmental Protection Agency (EPA) for the requested transfer of parcels owned by the Nation to the United States in trust for the Nation, and that the FEIS is now available to the public. The subject lands are located within Oneida and Madison Counties, New York. The FEIS is part of the administrative process that evaluates tribal applications that seek to have the United States take land into trust pursuant to 25 U.S.C. 465 and 25 CFR Part 151. The purpose of the proposed action is to help provide for the Nation's cultural and social preservation, expression and identity, political self-determination, self-sufficiency, and economic growth by providing a tribal land base and homeland over which the Nation exercises tribal sovereignty.

DATES: The Record of Decision on the proposed action will be issued on or after March 25, 2008. Any comments on the FEIS must arrive by March 24, 2008.

ADDRESSES: You may mail, hand carry or fax written comments to Mr. Franklin Keel, Regional Director, Eastern Region, Bureau of Indian Affairs, 545 Marriott Drive, Suite 700, Nashville, Tennessee 37214, fax (615) 564-6701. Electronic submission is not available.

Copies of the FEIS will be available for viewing at Web site www.oneidanationtrust.net and at the following locations during regular business hours, Monday through Friday, except holidays: (1) Oneida Nation Annex Building, 579A Main Street, Oneida, New York 13421 (business hours: 10 a.m. to 4 p.m.); Oneida City Hall, 109 N. Main Street, Downstairs Basement Room, Oneida, New York 13421; and Town of Verona Town Hall, 6600 Germany Road, Back Conference Room, Durhamville, New York 13054.

FOR FURTHER INFORMATION CONTACT: Kurt G. Chandler, (615) 564-6832.

SUPPLEMENTARY INFORMATION: The Nation submitted an application to the U.S. Department of the Interior through the BIA, requesting that the Secretary of the Interior take approximately 17,370 acres of land in Madison and Oneida Counties, New York, into trust status for the benefit of the Nation. The subject properties are currently owned by the Nation.

The nine alternatives analyzed in the FEIS are as follows: (A) Proposed Action—Group 1, Group 2, and Group 3 Lands (17,370 acres), which is the action proposed by the Nation; (B) Phased Acquisition of 35,000 Acres, which is based on a prior land claim settlement framework; (C) Group 1 and Group 2 Lands (9,903 acres); (D) Group 1 Lands (3,428 acres); (E) Turning Stone Casino Gaming Floor Tax Lot (225 acres); (F) Alternative Trust Land Grouping (11,986 acres), which includes all of the Group 1 lands and additional parcels from Groups 2 and 3; (G) No Action (0 acres); (H) County Trust Land Alternative (1,026 acres), which includes 590 acres in Madison County and 436 acres in Oneida County that the Counties proposed for acquisition subject to certain conditions; and (I) Preferred Alternative (13,086 acres), which includes Group 1 lands and some Group 2 and Group 3 lands near the Turning Stone Resort and Casino in Oneida County or near the Nation's 32-acre Territory in Madison County. The alternatives are intended to assist the review of the issues presented, but the Preferred Alternative does not necessarily reflect what the final decision will be, because a complete evaluation of the criteria listed in 25 CFR Part 151 may lead to a final decision that differs from the Preferred Alternative and the other alternatives.

Public participation occurred throughout the development of the Environmental Impact Statement (EIS). The Notice of Intent to prepare the EIS was published in the Federal Register on December 23, 2005 (70 FR 76325). Public scoping meetings were held January 10, 2006, in Verona, New York, and January 11, 2006, in Oneida, New York, and a 30-day public comment period was provided, all to obtain public input on issues and content for inclusion in the EIS. The BIA and EPA each published a Notice of Availability of the Draft EIS in the Federal Register on November 24, 2006 (71 FR 67896; 71 FR 67863). A public hearing on December 14, 2006 in Utica, New York, and a 45-day comment period were provided to receive public comments on the Draft EIS. On January 19, 2007, the BIA published a notice in the Federal Register (72 FR 2544) extending the public comment period on the Draft EIS to February 22, 2007, and announcing a second public hearing, which took place on February 6, 2007, in Verona, New York. The EPA published a notice of the Draft EIS comment period extension in the Federal Register on January 5, 2007 (72 FR 546). Additionally, the cooperating agencies for the EIS had a period from August 28 to September 29, 2006, to review and comment on a Pre-publication Draft EIS, pursuant to the EIS schedule appended to the cooperating agency Memorandum of Understanding.

Apart from the EIS process, the State and local governments were afforded notice and an opportunity to comment, pursuant to 25 CFR 151.10, on the written land-into-trust application that the Nation submitted to the BIA on April 5, 2005. The BIA issued letter notices on September 20, 2005 to the State and local governments involved. Including extensions well beyond the 30 days required in 25 CFR 151.10, the comment period on the Group 1 and Group 2 lands ran until January 30, 2006. The comment period on the Group 3 lands ran until March 1, 2006.

Also, as a courtesy, the BIA held a public informational meeting on the application on March 2, 2006, in Utica, New York. The BIA gave a presentation on the land-into-trust process, including the relationship of the EIS to that process, and answered audience questions at the meeting, but did not solicit public comments. Notice of the meeting was published in local newspapers.

The FEIS addresses issues and concerns raised through public participation and contains written responses to letters and oral testimony received during the public comment period on the Draft EIS.

Public Comment Availability

Comments, including names and addresses of respondents, will be available for public review at the BIA address shown in the ADDRESSES section, during regular business hours, 8 a.m. to 4:30 p.m., Monday through Friday, except holidays. Before including your address, phone number, e-mail address, or other personal identifying information in your comment, you should be aware that your entire comment—including your personal identifying information—may be made publicly available at any time. While you can ask in your comment to withhold your personal identifying information from public review, we cannot guarantee that we will be able to do so.

Authority

This notice is published in accordance with section 1503.1 of the Council on Environmental Quality regulations (40 CFR Parts 1500 through 1508) implementing the procedural requirements of the National Environmental Policy Act of 1969, as amended (42 U.S.C. 4321, et seq.), and the Department of the Interior Manual (516 DM 1-6), and is in the exercise of authority delegated to the Assistant Secretary—Indian Affairs by 209 DM 8 and temporarily re-delegated to the Associate Deputy Secretary pursuant to Secretarial Order 3259.

Dated: February 11, 2008.
James E. Cason,
Associate Deputy Secretary.

[FR Doc. E8-3247 Filed 2-21-08; 8:45 am]

BILLING CODE 4310-W7-P